DEPARTMENT OF COMMERCE

International Trade Administration

[A-122-838]

Certain Softwood Lumber Products from Canada: Notice of Initiation of Antidumping Duty New Shipper Review

AGENCY: Import Administration, International Trade Administration, Department of Commerce.

EFFECTIVE DATE: December 28, 2005.

SUMMARY: The Department of Commerce (the Department) has received a request to conduct a new shipper review of the antidumping duty (AD) order on certain softwood lumber from Canada. In accordance with section 751(a)(2)(B) of the Tariff Act of 1930, as amended (the Act), and 19 CFR 351.214(d) (2005), we are initiating an AD new shipper review for International Forest Products Corporation (IFP Corp.).

FOR FURTHER INFORMATION CONTACT: Constance Handley or Alexander De Filippi at (202) 482-0631 and (202) 482-1832, respectively; Office 1, AD/CVD Operations, Import Administration, International Trade Administration, U.S. Department of Commerce, 14th Street and Constitution Avenue, NW, Washington, DC 20230.

SUPPLEMENTARY INFORMATION:

Background

On November 18, 2005, the Department received a timely request from IFP Corp., in accordance with 19 CFR 351.214, for a new shipper review of the AD order on certain softwood lumber products from Canada, which has a May anniversary month.¹ IFP Corp. is a U.S. corporation that purchases Canadian dimensional hemlock lumber for export to customers in the United States. IFP Corp. buys the subject merchandise at the mill from Terrace Lumber Company (Terrace), a newly-opened mill in British Columbia, Canada. IFP Corp. is the exporter (and importer), and Terrace is the producer. Terrace was incorporated in Canada on April 7, 2005.

¹ See Notice of Amended Final Determination of Sales at Less Than Fair Value and Antidumping Duty Order: Certain Softwood Lumber Products From Canada, 67 FR 36068, 36070 (May 22, 2002).

As required by 19 CFR 351.214(b)(2)(ii) (A) and (iii)(A), IFP Corp. certified that it did not export certain softwood lumber to the United States during the period of investigation (POI), and that it has never been affiliated with any exporter or producer which exported certain softwood lumber during the POI.² Furthermore, pursuant to 19 CFR 351.214 (b)(2)(ii)(B), Terrace certified that it did not export certain softwood lumber to the United States during the period of investigation (POI). Pursuant to 19 CFR 351.214(b)(2)(iv), the company submitted documentation establishing the date on which it first shipped the subject merchandise to the United States, the date of entry of that first shipment, the volume of that and subsequent shipments and, the date of the first sale to an unaffiliated customer in the United States. In the context of this review, the Department intends to solicit and carefully examine information concerning the first party in the chain of distribution with knowledge of U.S. destination and IFP Corps.' role as the exporter of the shipment(s) under review. Our findings may result in the rescission of this review if we find the party requesting the review was not eligible to make the request.

² See Submission from IFP Corp. to the Department regarding Request for New Shipper Review, dated November 18, 2005.

Initiation of Review

In accordance with section 751(a)(2)(B) of the Act and 19 CFR 351.214(b), and based on information on the record, we are initiating an AD new shipper review for IFP. We intend to issue the preliminary results of this new shipper review not later than 180 days after initiation of this review. We intend to issue final results of this review no later than 90 days after the date on which the preliminary results are issued. See 19 CFR 351.214(i).

New Shipper Review Proceeding | Period to be Reviewed
International Forest Products Corporation Ltd. | 05/01/05 - 10/31/05

We will instruct U.S. Customs and Border Protection to allow, at the option of the importer, the posting, until the completion of the review, of a bond or security in lieu of a cash deposit for each entry of the subject merchandise from the above-listed company in accordance with section 751(a)(2)(B)(iii) of the Act and 19 CFR 351.214(e). Because IFP Corp., certified that it exports the subject merchandise produced by Terrace, the sale of which is the basis for these new shipper review request, we will permit the bonding privilege only with respect to entries of subject merchandise produced by Terrace and exported by IFP Corp.

Interested parties that need access to proprietary information in this new shipper review should submit applications for disclosure under administrative protective orders in accordance with 19 CFR 351.305 and 351.306.

This initiation and notice are in accordance with section 751(a)(2)(B) of the Act, 19 CFR 351.214(d) and 19 CFR 351.221(c)(i).

Dated: December 21, 2005.
Stephen J. Claeys,
Deputy Assistant Secretary for Import Administration.

[FR Doc. E5-7979 Filed 12-27-05; 8:45 am]

BILLING CODE 3510-DS-S